NUCLEAR REGULATORY COMMISSION

[NRC-2024-0075]

Information Collection: Tribal Participation in the Advance Notification Program

AGENCY: Nuclear Regulatory Commission.

ACTION: Notice of submission to the Office of Management and Budget; request for comment.

SUMMARY: The U.S. Nuclear Regulatory Commission (NRC) has recently submitted a request for renewal of an existing collection of information to the Office of Management and Budget (OMB) for review. The information collection is entitled, “Tribal Participation in the Advance Notification Program.”

DATES: Submit comments by April 30, 2025. Comments received after this date will be considered if it is practical to do so, but the Commission is able to ensure consideration only for comments received on or before this date.

ADDRESSES: Written comments and recommendations for the proposed information collection should be sent within 30 days of publication of this notice to https://www.reginfo.gov/public/do/PRAMain. Find this particular information collection by selecting “Currently under Review—Open for Public Comments” or by using the search function.

FOR FURTHER INFORMATION CONTACT: Kristen Benney, Acting NRC Clearance Officer, U.S. Nuclear Regulatory Commission, Washington, DC 20555-0001; telephone: 301-415-6355; email: Infocollects.Resource@nrc.gov.

SUPPLEMENTARY INFORMATION:

I. Obtaining Information and Submitting Comments

A. Obtaining Information

Please refer to Docket ID NRC-2024-0075 when contacting the NRC about the availability of information for this action. You may obtain publicly available information related to this action by any of the following methods:

• Federal Rulemaking Website: Go to https://www.regulations.gov and search for Docket ID NRC-2024-0075.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• NRC's Clearance Officer: A copy of the collection of information and related instructions may be obtained without charge by contacting the NRC's Acting Clearance Officer, Kristen Benney, Office of the Chief Information Officer, U.S. Nuclear Regulatory Commission, Washington, DC 20555-0001; telephone: 301-415-6355; email: Infocollects.Resource@nrc.gov.

B. Submitting Comments

Written comments and recommendations for the proposed information collection should be sent within 30 days of publication of this notice to https://www.reginfo.gov/public/do/PRAMain. Find this particular information collection by selecting “Currently under Review—Open for Public Comments” or by using the search function.

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. chapter 35), the NRC recently submitted a request for renewal of an existing collection of information to OMB for review entitled, “Tribal Participation in the Advance Notification Program.” The NRC hereby informs potential respondents that an agency may not conduct or sponsor, and that a person is not required to respond to, a collection of information unless it displays a currently valid OMB control number.

The NRC published a Federal Register notice with a 60-day comment period on this information collection on October 17, 2024, 89 FR 83707.

1. The title of the information collection: Tribal Participation in the Advance Notification Program.

2. OMB approval number: 3150-0250.

3. Type of submission: Extension.

4. The form number, if applicable: Not applicable.

5. How often the collection is required or requested: Information would be requested: (1) every 5 years, (2) after an Indian Tribe achieves Federal recognition, (3) when a transportation route is NRC-approved that passes within or across an Indian Tribe's reservation boundaries, and (4) when there are changes. Information is requested from those Indian Tribes seeking to receive advance notifications. Some information is requested one time.

6. Who will be required or asked to respond: Federally recognized Indian Tribes. Only those Federally recognized Indian Tribes with reservations and either receiving or seeking to receive the advance notifications would be asked to respond to the specific information request.

7. The estimated number of annual responses: 20 (7 reporting responses + 13 recordkeepers).

8. The estimated number of annual respondents: 13.

9. The estimated number of hours needed annually to comply with the information collection requirement or request: 37.5 hours (21 reporting + 16.5 recordkeeping).

10. Abstract: In order to receive notification of certain shipments of irradiated reactor fuel and/or nuclear waste within or across the boundary of an Indian Tribe's reservation, Tribes shall affirmatively opt into the advance notification program. Because the notification may contain Safeguards Information (SGI), the Tribal official will submit certification that the Tribal official or their designee(s) has completed NRC-provided training on the handling of SGI and has the necessary protection measures in place for implementation. The Tribal official will provide contact information for the designee(s) and emergency response contact(s). The Tribal official will also provide confirmation of the reservation boundaries or the necessary corrections to a map provided by the NRC. The NRC makes this information available to others, including NRC licensees. NRC licensees will use the information to comply with the NRC's regulations that require them to provide advance notice of certain shipments of radioactive material to participating Tribes.

III. Availability of Documents

The documents identified in the following table are available to interested persons through ADAMS.

Document description | ADAMS accession No.
Five-year Notification Letter Template for Tribal Participation in the Advance Notification Program | ML25078A408
Acknowledgment Letter Template for Tribal Participation in the Advance Notification Program | ML24170A430
NUREG/BR-0362 “Protection of Safeguards Information: Requirements for Tribes Participating in the Advance Notification of Irradiated Reactor Fuel Shipments” | ML12283A116
Safeguards Information (SGI) Awareness Training | ML16083A340
Final Supporting Statement | ML25070A230

Dated: March 26, 2025.
For the Nuclear Regulatory Commission.
Kristen Benney,
Acting NRC Clearance Officer, Office of the Chief Information Officer.

[FR Doc. 2025-05468 Filed 3-28-25; 8:45 am]

BILLING CODE 7590-01-P